DEPARTMENT OF STATE

[Delegation of Authority No. 166-3]

Redelegation of Authority 166-2 Providing for the Settlement of Claims Under the Federal Tort Claims Act and 22 U.S.C. 2669-1

By virtue of the authority vested in me by State Department Delegation of Authority No. DA-166-2, I hereby redelegate to the Assistant Legal Adviser and Deputy Assistant Legal Adviser for International Claims and Investment Disputes the functions delegated to me in that Delegation of Authority, including the denial of all claims, except for the function of making any award, compromise or settlement in excess of $10,000.

This Delegation of Authority supersedes DA-166-1.

This Delegation of Authority shall be published in the Federal Register.

Dated: July 3, 2008.
John B. Bellinger III,
Legal Adviser, Department of State.

[FR Doc. E8-16629 Filed 7-18-08; 8:45 am]

BILLING CODE 4710-08-P